DEPARTMENT OF THE INTERIOR

Bureau of Land Management

[OR-958-6333-ET, GP0-0322; OR-55655]

Notice of Proposed Withdrawal Correction, Oregon

AGENCY: Bureau of Land Management, Interior.

ACTION: Notice.

SUMMARY: This action corrects an error in the legal description in the notice of proposed withdrawal published in 65 FR page 38849, dated June 22, 2000, FR Doc. 00-15781. The land described as the W½ of sec. 36, T. 28 S., R. 32 E., Willamette Meridian, should read, W½ of sec. 16, T. 28 S., R. 32 E., Willamette Meridian.

Dated: August 2, 2000.
Robert D. DeViney, Jr.,
Chief, Branch Realty and Records Services.

[FR Doc. 00-20290 Filed 8-9-00; 8:45 am]

BILLING CODE 4310-33-U